FEDERAL COMMUNICATIONS COMMISSION

47 CFR Part 54

[WT Docket Nos. 18-122; Report No. 3149; FRS 16834 ]

Petitions for Reconsideration of Action in Proceedings

AGENCY: Federal Communications Commission.

ACTION: Petitions for Reconsideration.

SUMMARY: Petitions for Reconsideration (Petitions) have been filed in the Commission's proceeding by David Silver, on behalf of Aerospace Industries Association et al., Howard J. Symons, on behalf of Charter Communications Inc., Laura H. Phillips, on behalf of Intelsat License LLC, Patrick Masambu, on behalf of International Telecommunications Satellite Organization, Carlos M. Nalda, on behalf of Eutelsat S.A. and Edward A. Yorkgitis, Jr., on behalf of Raytheon Technologies Corporation.

DATES: Oppositions to the Petitions must be filed on or before June 26, 2020. Replies to an opposition must be filed on or before July 6, 2020.

ADDRESSES: Federal Communications Commission, 445 12th Street SW, Washington, DC 20554.

FOR FURTHER INFORMATION CONTACT: Susan Mort, Wireless Telecommunications Bureau, (202) 418-2429.

SUPPLEMENTARY INFORMATION: This is a summary of the Commission's document, Report No. 3149, released May 28, 2020. Petitions may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Expanding Flexible Use of the 3.7-4.2 GHz Band, FCC 20-20, published at 85 FR 22804, April 23, 2020 in GN Docket No. 18-122. This document is being published pursuant to 47 CFR 1.429(e). See also 47 CFR 1.4(b)(1) and 1.429(f), (g).

Number of petitions filed: 6.

Federal Communications Commission.
Marlene Dortch,
Secretary, Office of the Secretary.

[FR Doc. 2020-12634 Filed 6-10-20; 8:45 am]

BILLING CODE 6712-01-P